DEPARTMENT OF HEALTH AND HUMAN SERVICES

Administration for Children and Families

Administration for Native Americans; Request for Information; Extension of Comment Period

AGENCY: Administration for Children and Families, HHS.

ACTION: Notice.

SUMMARY: The Administration for Children and Families (ACF) within the U.S. Department of Health and Human Services (HHS) is extending the period to submit comments responsive to the Request for Information, published in the Federal Register on January 9, 2017. The Request for Information (RFI) requests information from American Indian and Alaska Native (AI/AN) elected representatives, tribes, tribal organizations, and other stakeholder (including grantees) to identify issues and challenges facing AI/AN populations in order to inform ACF of tribes' and tribal organizations' recommendations, promising practices, and innovations to address the needs of AI/AN children, youth, families, and communities.

DATES: The comment period for the Request for Information has been extended to May 9, 2017. To receive consideration comments must be received no later than 11:59 p.m. Eastern Time on that date.

ADDRESSES: Written comments may be submitted through any of the methods specified below. However, electronic submission is preferred. Please do not duplicate comments.

Electronic submission through the https://www.regulations.gov portal: Follow the instructions for submitting electronic comments. Attachments, if any, should be in Microsoft Word or Microsoft Excel. Then click on the “Comment Now!” button on the Search Results page. This will open up a Comment form where you can enter your comment on the form, attach files (up to 10 MB each), as well as your personal information, when applicable. Be sure to complete all required fields. Please note that information entered on the web form may be viewable publicly. Once you reach the “Your Preview” screen, the information that will be viewable publicly is displayed directly on the form under the section titled: “This information will appear on Regulations.gov.” To complete your comment, you must first agree to the disclaimer and check the box. This will enable the “Submit Comment” button. Upon completion, you will receive a Comment Tracking Number for your comment. To learn more about comment submission, visit the Submit a Comment section of the How to Use Regulations.gov pages.

Electronic submission through email to ANAComments@acf.hhs.gov: All comments received before the close of the extended comment period will be available for public inspection, including any information that is included in a comment. All electronically submitted comments posted through the https://www.regulations.gov portal received before the end of the comment period will be available at http://www.regulations.gov.

FOR FURTHER INFORMATION CONTACT: Camille Loya, Director Division of Policy, Administration for Native Americans, Camille.Loya@acf.hhs.gov, 202-401-5964.

SUPPLEMENTARY INFORMATION: HHS published a Request for Information (RFI) in the Federal Register on January 9, 2017 (82 FR 2366) with a deadline for public comments of March 10, 2017, by 11:59 p.m. Eastern Time. The RFI solicited information AI/AN tribes, tribal organizations, and stakeholders (including grantees) with respect to recommendations, promising practices, and innovations to address the needs of AI/AN children, youth, families, and communities so that such data could inform and provide an evidence base for the formulation of policy, development of potential rulemaking, formulation of legislative proposals, and strategic planning in consultation with tribes. The RFI included nine questions on specific topical areas as well as invitation to provide information on any matter relevant to ACF's work with and on behalf of AI/AN populations.

HHS received feedback that the original comment period of 60 days was insufficient to provide for comprehensive and responsive input, particularly from AI/AN elected representatives and leadership. Therefore, HHS is extending the comment period for an additional 60 days to maximize the opportunity for all interested parties to collect relevant data and submit information and feedback in response to the RFI, including the nine specific topical areas for which input is sought.

Dated: February 6, 2017.
Naomi Goldstein,
Acting Assistant Secretary for Children and Families.

[FR Doc. 2017-02730 Filed 2-9-17; 8:45 am]

BILLING CODE 4184-34-P